DEPARTMENT OF LABOR

Employment and Training Administration

[TA-W-37,636]

Voyager Emblem Incorporated, Sanborn, New York; Amended Certification Regarding Eligibility To Apply for Worker Adjustment Assistance

In accordance with Section 223 of the Trade Act of 1974 (19 U.S.C. 2273) the Department of Labor issued a Notice of Certification Regarding Eligibility to Apply for Worker Adjustment Assistance on July 19, 2000, applicable to workers of Voyager Emblem Incorporated, Sanborn, New York. The notice was published in the Federal Register on August 1, 2000 (65 FR 46954).

At the request of the State agency, the Department reviewed the certification for workers of the subject firm. The workers produce embroidered emblems. New findings show that there was previous certification for the subject firm workers, TA-W-34,392, which was issued on May 15, 1998. That certification expired May 15, 2000. To avoid an overlap in worker group coverage, the certification for TA-W-37,636 is being amended to change the impact date from April 19, 1999, to May 16, 2000.

The amended notice applicable to TA-W-37,636 is hereby issued as follows:

“All workers of Voyager Emblem Incorporated, Sanborn, New York, who become totally or partially separated from employment on or after May 16, 2000 through July 19, 2002, are eligible to apply for adjustment assistance under Section 223 of the Trade Act of 1974.”

Signed at Washington, D.C. this 18th day of August 2000.
Grant D. Beale,
Program Manager, Division of Trade Adjustment Assistance.

[FR Doc. 00-22328 Filed 8-30-00; 8:45 am]

BILLING CODE 4510-30-M